DEPARTMENT OF TRANSPORTATION

Federal Highway Administration

Environmental Impact Statement, Washington County, Utah

AGENCY: Federal Highway Administration (FHWA), Department of Transportation.

ACTION: Notice of intent to prepare an Environmental Impact Statement.

SUMMARY: The FHWA, on behalf of the Utah Department of Transportation (UDOT), is issuing this notice to advise the public that an Environmental Impact Statement (EIS) will be prepared to evaluate proposed courses of action to satisfy transportation and safety goals at Interstate 15 (I-15)/Green Spring Drive Interchange (Exit 10) and the surrounding roadway system in Washington City within Washington County, Utah.

DATES: A scoping, purpose and need, and alternatives meeting is scheduled for August 28, 2018 from 4:30 to 7:30 p.m. at the Washington City Community Center in Washington, Utah. A formal comment period will also be held from August 17 to September 14, 2018.

ADDRESSES: Washington City Community Center, 350 Community Center Drive, Washington, UT 84780.

FOR FURTHER INFORMATION CONTACT: Elisa Albury, Environmental Program Manager, Environmental Services Division, UDOT 4501 South 2700 West, P.O. Box 148450, Salt Lake City, UT 84114-8450; Telephone: (801) 834-5284, Email: ealbury@utah.gov. Kim Manwill, MP11 Environmental Study Project Manager, UDOT Region 4, 708 South 100 West, Richfield, UT 84701; Telephone (435) 896-0733, Email: kmanwill@utah.gov. UDOT's normal business hours are 8:00 a.m. to 5:00 p.m. (Mountain Standard Time), Monday through Friday, except State and Federal holidays.

SUPPLEMENTARY INFORMATION: The environmental review, consultation, and other actions required by applicable Federal environmental laws for this project are being or have been carried out by UDOT pursuant to 23 U.S.C. 327 and a Memorandum of Understanding dated January 17, 2017 and executed by FHWA and UDOT. UDOT, as the assigned National Environmental Policy Act (NEPA) agency, will prepare an EIS for a proposal to satisfy transportation and safety goals at Interstate 15 (I-15)/Green Spring Drive (Exit 10) Interchange and the surrounding roadway system in Washington County within Washington City, Utah. The proposed project study area extends east and west along I-15 between the I-15/Green Spring Drive Interchange (Exit 10) and I-15/Washington Parkway Interchange (Exit 13). The extent of the proposed study area is generally bound by Buena Vista Boulevard to the north and Telegraph Street to the south. The proposed logical termini for this study are I-15 Exit 10 and Exit 13, as well as Buena Vista Boulevard, and Telegraph Street. Each of these streets are major arterials that provide north-south and east-west travel within the study area.

The environmental review process for this project began in the summer of 2017. An information meeting was held August 29, 2017 to gather public input related to the transportation needs within the study area and inform the community of the environmental process. Based on community concerns regarding potential outcomes of this study, UDOT decided the appropriate level of environmental review needed for this project would be best provided by proceeding with an EIS.

As part of the EIS, UDOT will consider a range of alternatives based on the purpose and need of the project and taking into account agency and public input. The currently contemplated alternatives include: (1) Taking no action (no-build); (2) making the existing system operate more efficiently; (3) adding capacity to the system; (4) dispersing of traffic more evenly throughout the system; (5) reducing traffic in the system; (6) combinations of any of the above; and (7) other reasonable alternatives if identified during the scoping process. Alternatives will be refined based on input from agencies and the public during the initial coordination/scoping period and agency and public involvement opportunities. Alternatives that do not meet the project purpose and need or that are otherwise not reasonable will not be carried forward for detailed consideration.

A Coordination Plan is being prepared to define the agency and public participation procedure for the environmental review process. The plan will outline: (1) How agencies and the public will provide input during the scoping process; (2) the development of the purpose and need; and (3) alternatives development.

Letters describing the proposed action and soliciting comments will be sent to appropriate Federal, State, Participating, and local agencies, Native American tribes, and to private organizations and citizens who have previously expressed or are known to have an interest in this proposal. A public scoping, purpose and need, and alternatives meeting is scheduled for August 28, 2018 from 4:30 to 7:30 p.m. at the Washington City Community Center in Washington, Utah. Public notice will be given of the time and place of the meeting. Information regarding this meeting and the project may also be obtained through a public website maintained by UDOT at www.mp11.org.

During the NEPA process, other public meetings may be held as appropriate to allow the public, as well as Federal, State, and local agencies, and tribes, to provide comments on the purpose of and need for the project, potential alternatives, and social, economic, and environmental issues of concern. In addition, a public hearing will be held following the release of the Draft EIS. Public notice advertisements and direct mailings will notify interested parties of the time and place of any public meetings and of the public hearing. The Draft EIS will be available for public and agency review and comment prior to the public hearing.

To ensure that the full range of issues related to this proposed action are addressed and all significant issues identified, comments, and suggestions are invited from all interested parties. Comments or questions concerning this proposed action and the EIS should be directed to UDOT at the mail or email address provided above by September 14, 2018. For additional information please visit the project website at www.mp11.org. Information requested or comments can also be provided by email to info@mp11.org.

(Catalog of Federal Domestic Assistance Program Number 20.205, Highway Planning and Construction. The regulations implementing Executive Order 12372 regarding intergovernmental consultation on Federal programs and activities apply to this program.)

Issued on: August 9, 2018.
Ivan Marrero,
Division Administrator, Federal Highway Administration, Salt Lake City, Utah.

[FR Doc. 2018-17895 Filed 8-17-18; 8:45 am]

BILLING CODE 4910-RY-P